FEDERAL RESERVE SYSTEM

Agency Information Collection Activities: Announcement of Board Approval under Delegated Authority and Submission to OMB

AGENCY: Board of Governors of the Federal Reserve System.

SUMMARY: The Board of Governors of the Federal Reserve System (Board) is adopting a proposal to extend for three years, without revision, the Recordkeeping Requirements Associated with Regulation GG (FR GG; OMB No. 7100-0317).

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/home/review or may be requested from the agency clearance officer, whose name appears above. On the page displayed at the link above, you can find the supporting information by referencing the collection identifier, FR GG.

Final Approval Under OMB Delegated Authority of the Extension for Three Years, Without Revision, of the Following Information Collection

Collection title: Recordkeeping Requirements Associated with Regulation GG.

Collection identifier: FR GG.

OMB control number: 7100-0317.

General description of collection: Regulation GG—Prohibition on Funding of Unlawful internet Gambling (12 CFR part 233) is related to the Unlawful internet Gambling Enforcement Act of 2006. The FR GG is the Board's information collection associated with Regulation GG and requires participants in designated payment systems to establish written policies and procedures related to unlawful internet gambling. These recordkeeping requirements are contained in section 5 of Regulation GG. Policies and procedures reasonably designed to identify and block, or otherwise prevent or prohibit, restricted transactions are necessary because Congress found that internet gambling is primarily funded through personal use of payment system instruments, credit cards, and wire transfers.

Frequency: Event-generated.

Respondents: Depository institutions, card system operators, credit unions, and money transmitting business operators.

Total estimated number of respondents: 4,635.

Total estimated annual burden hours: 46,410.

Current actions: On March 7, 2024, the Board published a notice in the Federal Register (89 FR 16572) requesting public comment for 60 days on the extension, without revision, of the FR GG. The comment period for this notice expired on May 6, 2024. The Board did not receive any comments.

Board of Governors of the Federal Reserve System, July 24, 2024.
Michele Taylor Fennell,
Deputy Associate Secretary of the Board.

[FR Doc. 2024-16675 Filed 7-29-24; 8:45 am]

BILLING CODE 6210-01-P